FEDERAL MARITIME COMMISSION

Ocean Transportation Intermediary Licenses; Correction

In the Federal Register Notice published April 5, 2006 (71 FR 65) reference to the name of Protrans International, Inc. is corrected to read:

“ProTrans International, Inc.”

Dated: April 21, 2006.
Bryant L. VanBrakle,
Secretary.

[FR Doc. E6-6280 Filed 4-25-06; 8:45 am]

BILLING CODE 6730-01-P